DEPARTMENT OF LABOR

Occupational Safety and Health Administration

[Docket No. OSHA-2011-0010]

Fire Protection in Shipyard Employment Standard; Extension of the Office of Management and Budget's (OMB) Approval of Information Collection (Paperwork) Requirements

AGENCY: Occupational Safety and Health Administration (OSHA), Labor.

ACTION: Notice; correction.

SUMMARY: The Occupational Safety and Health Administration (OSHA) published a document in the Federal Register on May 16, 2017, soliciting public comments concerning its proposal to extend the Office of Management and Budget's (OMB) approval of the information collection requirements specified in the Fire Protection in Shipyard Employment Standard. The document contained an incorrect docket number. This notice corrects the docket number.

DATES: This correction is effective June 12, 2017.

FOR FURTHER INFORMATION CONTACT: Todd Owen or Theda Kenney, Directorate of Standards and Guidance, OSHA, U.S. Department of Labor, Room N-3609, 200 Constitution Avenue NW., Washington, DC 20210; telephone: (202) 693-2222.

SUPPLEMENTARY INFORMATION:

Correction:

In the Federal Register of May 16, 2017 (79 FR 22563-22564), correct the Docket Number as described below.

1. On page 22563, in the second column, in the third line of the heading section, change the Docket Number to read:

[Docket No. OSHA-2011-0010]

* * * * *

2. On page 22563, in the third column, in the paragraph titled “Mail, hand delivery, express mail, or messenger or courier service,” change the Docket Number to read:

[Docket No. OSHA-2011-0010]

* * * * *

3. On page 22564, in the second column, in the paragraph titled “Instructions,” change the Docket Number to read:

[Docket No. OSHA-2011-0010]

* * * * *

4. On page 22564, in the second column, in the first paragraph under “IV. Public Participation—Submission of Comments on This Notice and Internet Access to Comments and Submissions,” change the Docket Number to read:

[Docket No. OSHA-2011-0010]

* * * * *

Authority and Signature

Dorothy Dougherty, Deputy Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on June 5, 2017.
Dorothy Dougherty,
Deputy Assistant Secretary of Labor for Occupational Safety and Health.

[FR Doc. 2017-12094 Filed 6-9-17; 8:45 am]

BILLING CODE 4510-26-P